ENVIRONMENTAL PROTECTION AGENCY

[FRL-10004-61-OW]

Notice of Webinar Briefing and Public Meeting

AGENCY: Environmental Protection Agency (EPA).

ACTION: Notice of webinar briefing and public meeting.

SUMMARY: The EPA's Environmental Financial Advisory Board (EFAB) will hold a webinar briefing on January 30, 2020 and a public meeting on February 11-13, 2020 in Washington, DC. The purpose of the webinar will be to receive a background briefing on the Backhaul Alaska program. The purpose of the public meeting will be to: Consider a report by the EFAB Stormwater Infrastructure Finance Task Force Workgroup; conduct a consultation with the EPA on financing options for the Backhaul Alaska program; receive briefings on other environmental financing topics; and consider possible future projects.

DATES: The webinar will be held on January 30, 2020 from 1 p.m. to 3 p.m. EST. The February 11, 2020 through February 13, 2020 public meetings will be held as follows: February 11 and 12, 2020 from 9 a.m. to 5 p.m. EST, and on February 13, 2020 from 9 a.m. to 1 p.m. EST.

ADDRESSES: The webinar briefing will be conducted by webinar only and is open to the public; interested persons must register in advance at https://register.gotowebinar.com/register/2221546055725723395. The public meeting will be held at the Washington Marriott Georgetown, 1221 22nd Street NW, Washington, DC 20037. The meeting is open to the public; however, seating is limited. All members of the public who wish to attend the meeting are asked to register in advance, no later than February 5, 2020 at https://efabmeetingfeb2020.eventbrite.com.

FOR FURTHER INFORMATION CONTACT: Any member of the public who wants further information concerning the webinar briefing or the public meeting may contact Stephanie Sanzone, EFAB Coordinator, via telephone/voice mail (202) 564-2839 or email at sanzone.stephanie@epa.gov. The EFAB mailing address is: EPA Environmental Financial Advisory Board (4204M), U.S. Environmental Protection Agency, 1200 Pennsylvania Avenue NW, Washington, DC 20460. General information about the EFAB can be found on the EPA website at https://www.epa.gov/waterfinancecenter/efab.

SUPPLEMENTARY INFORMATION:

Background: The EFAB is an EPA advisory committee chartered under the Federal Advisory Committee Act (FACA), 5 U.S.C. App. 2, to provide advice and recommendations to the EPA on innovative approaches to funding environmental programs, projects, and activities. Administrative support for the EFAB is provided by the Water Infrastructure and Resiliency Finance Center within the EPA's Office of Water. Pursuant to FACA and EPA policy, notice is hereby given that the EFAB will hold a webinar briefing and a public meeting for the following purposes:

Webinar Briefing: The purpose of the webinar on January 30, 2020 will be for members of the EFAB to receive a briefing on the Backhaul Alaska program in preparation for a consultation on the program to be held at the February 11-13, 2020 public meeting. Due to unforeseen administrative circumstances, the EPA is announcing this webinar with less than 15 calendar days notice. The webinar is open to the public, but no oral public comments will be accepted during the briefing. Written public comments relating to the Backhaul Alaska consultation should be provided in accordance with the instructions below on written statements.

Public Meeting: The agenda for the meeting on February 11-13, 2020 will include:

(1) Review of a report by the EFAB Stormwater Infrastructure Finance Task Force Workgroup. Pursuant to Section 4101 of the America's Water Infrastructure Act of 2018, the Task Force was established under the auspices of the EFAB to prepare a report on the availability of public and private sources of funding for the construction, rehabilitation, and operation and maintenance of stormwater infrastructure. The final Task Force report will be considered by the EFAB for revision or approval for transmittal to the agency. For additional information on the work of the Task Force, contact Ms. Ellen Tarquinio, EPA staff lead, at tarquinio.ellen@epa.gov.

(2) Consultation on financing options for the Backhaul Alaska program. In 2019, the EFAB prepared an advisory report on revenue options for a waste service backhaul program in rural Alaska. At the request of EPA Region 10, the EFAB has agreed to engage in further discussions on financing and governance options for the Backhaul Alaska program. A consultation is a form of advisory activity that provides oral advice and feedback from the EFAB members at a public meeting. For additional information on the Backhaul Alaska program, contact Ms. Gabriela Carvalho, EPA Region 10, at carvalho.gabriela@epa.gov.

(3) Briefings on environmental finance topics. The EFAB will hear from invited EPA representatives on issues relating to financing of environmental protection in small communities.

(4) Discussion of potential future advisory topics. EFAB members will discuss potential environmental finance topics on which the Board may wish to provide advice and recommendations to the EPA.

Availability of Meeting Materials: Briefing materials for the webinar and materials for the February 11-13, 2020 meeting (including meeting agenda and draft review documents) will be available on the EPA website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to the EPA. Members of the public can submit comments on matters being considered by the EFAB for consideration by members as they develop their advice and recommendations to the EPA.

Oral Statements: In general, individuals or groups requesting an oral presentation at EFAB public meetings will be limited to five minutes. Persons interested in providing oral statements at the February 11-13, 2020 meeting should contact Stephanie Sanzone in writing (preferably via email) at the contact information noted above by February 5, 2020 to be placed on the list of registered speakers.

Written Statements: Written statements for the February 11-13, 2020 meeting should be received by February 5, 2020 so that the information can be made available to the EFAB for its consideration prior to the meeting. Written statements should be sent via email to efab@epa.gov (preferred) or in hard copy with original signature to the EFAB mailing address above. Members of the public should be aware that their personal contact information, if included in any written comments, may be posted to the EFAB website. Copyrighted material will not be posted without explicit permission of the copyright holder.

Accessibility: For information on access or services for individuals with disabilities, or to request accommodations for a disability, please contact Sandra Williams at (202) 564-4999 or williams.sandra@epa.gov at least 10 business days prior to the meeting to allow as much time as possible to process your request.

Dated: January 13, 2020.
Andrew Sawyers,
Director, Office of Wastewater Management, Office of Water.

[FR Doc. 2020-00980 Filed 1-21-20; 8:45 am]

BILLING CODE 6560-50-P